DEPARTMENT OF HEALTH AND HUMAN SERVICES

National Institutes of Health

Meeting of the Recombinant DNA Advisory Committee

Pursuant to section 10(a) of the Federal Advisory Committee Act, as amended (5 U.S.C. Appendix 2), notice is hereby given of a meeting of the Recombinant DNA Advisory Committee (RAC) and a Safety Symposium on Gene Transfer Research.

The Safety Symposium on Gene Transfer Research will be held from 8 a.m. to 6 p.m. on March 7, 2001 at the Doubletree Hotel, 1750 Rockville Pike, Rockville, MD 20852. The symposium will explore safety considerations in the Use of Adeno-Associated Virus Vectors in Gene Transfer Clinical Trials.

The RAC meeting will be held from 8:30 a.m. to 5:30 p.m. on March 8, 2001 at the National Institutes of Health (NIH), Building 31, C Wing, Conference Room 10, 9000 Rockville Pike, Bethesda, MD 20892. The Committee will review selected human gene transfer protocols; a proposed action to amend the NIH Guidelines with regard to NIH policy on serious adverse event reporting; data management activities related to human gene transfer clinical trials; and other matters to be considered by the Committee.

Both meetings are open to the public with attendance limited to space available. Draft meeting agendas and other information will be posted at the Office of Biotechnology Activities' website: http://www4.od.nih.gov/oba

Individuals who wish to provide public comments or who plan to attend the meeting and need special assistance, such as sign language interpretation or other reasonable accommodations, should notify Kelly Fennington, Program Analyst, Office of Biotechnology Activities by telephone at 301 496-9838 or E-mail at FenningK@od.nih.gov

Dated: February 13, 2001.
LaVerne Y. Stringfield,
Director, Office of Federal Advisory Committee Policy.

[FR Doc. 01-4455 Filed 2-22-01; 8:45 am]

BILLING CODE 4140-01-M